DEPARTMENT OF HOUSING AND URBAN DEVELOPMENT

[Docket No. FR-5500-FA-29]

Announcement of Funding Awards for the McKinney-Vento HMIS Technical Assistance (HMIS TA) Fiscal Year 2011

AGENCY: Office of the Assistant Secretary for Community Planning and Development, HUD.

ACTION: Notice of funding awards for HUD'S Fiscal Year 2011 McKinney-Vento HMIS Technical Assistance (HMIS-TA).

SUMMARY: In accordance with section 102(a)(4)(C) of the Department of Housing and Urban Development Reform Act of 1989, this announcement notifies the public of funding decisions made by the Department in a competition for funding under the Notice of Funding Availability (NOFA) for the McKinney-Vento HMIS Technical Assistance program. This announcement contains the names of the awardees and amounts of the awards made available by HUD.

FOR FURTHER INFORMATION CONTACT: Julie Hovden, Director, Technical Assistance Division, Office of Community Planning and Development, 451 Seventh Street SW., Room 7218, Washington, DC 20410-7000; telephone (202) 402-4496 (this is not a toll-free number). Persons with speech or hearing impairments may access this telephone number via TTY by calling the toll-free Federal Information Relay Service during working hours at 800-877-8339. For general information on this and other HUD programs, visit HUD's Homelessness Resource Exchange at www.hudhre.info, HUD's Web site at www.hud.gov, or call Community Connections at 1-800-998-9999.

SUPPLEMENTARY INFORMATION: The Fiscal Year 2011 McKinney-Vento HMIS Technical Assistance program was designed to provide technical assistance to communities on the implementation and operation of homeless management information systems, including data collection and analysis and performance reporting through the selection of technical assistance (TA) providers for this program.

The competition was announced in the HMIS-TA NOFA published October 17, 2011 (FR-5500-N-29) and closed on November 15, 2011. The NOFA allowed for up to $7 million for Homeless Management Information System (HMIS) data collection, reporting and research, including the Annual Homeless Assessment Report (AHAR) TA activities. Applications were rated and selected for funding on the basis of selection criteria contained in the Notice. For the Fiscal Year 2011 competition, 4 awards totaling $6,809,000 were awarded to 4 distinct technical assistance providers nationwide.

In accordance with section 102(a)(4)(C) of the Department of Housing and Urban Development Reform Act of 1989 (103 Stat. 1987, 42 U.S.C. 3545), the Department is publishing the grantees and the amounts of the awards in Appendix A to this document.

Dated: February 15, 2012.
Clifford D. Taffet,
General Deputy Assistant Secretary for Community Planning and Development.

Appendix A

Recipient | State | Amount
Abt Associates | MA | $2,436,500
Cloudburst Consulting Group | MD | 1,584,000
ICF International | VA | 1,644,500
National Center on Family Homelessness | MA | 1,144,000
Total |  | 6,809,000

[FR Doc. 2012-4201 Filed 2-22-12; 8:45 am]

BILLING CODE 4210-67-P